DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of September 15, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Greene County, Arkansas and Incorporated Areas
Docket No.: FEMA-B-2069
Unincorporated Areas of Greene County | Greene County Office of Emergency Management, 320 West Court Street, Suite 107, Paragould, AR 72450.
Athens-Clarke County, Georgia (All Jurisdictions)
Docket No.: FEMA-B-2131
Athens-Clarke County | Athens-Clarke County Planning Department Building, 120 West Dougherty Street, Athens, GA 30601.
City of Winterville | City Hall, 125 North Church Street, Winterville, GA 30683.
Oconee County, Georgia and Unincorporated Areas
Docket No.: FEMA-B-2131
City of Watkinsville | City Hall, 191 VFW Drive, Watkinsville, GA 30677.
Town of North High Shoals | North High Shoals Town Hall, 260 Hillsboro Road, Bishop, GA 30621.
Unincorporated Areas of Oconee County | Oconee County Code Enforcement, 1291 Greensboro Highway, Room A108, Watkinsville, GA 30677.
Charlevoix County, Michigan (All Jurisdictions)
Docket No.: FEMA-B-2111
City of Charlevoix | City Hall, 210 State Street, Charlevoix, MI 49720.
Little Traverse Bay Bands of Odawa Indians | Little Traverse Bay Bands of Odawa Indians Government Center, 7500 Odawa Circle, Harbor Springs, MI 49740.
Township of Charlevoix | Township Hall, 12491 Waller Road, Charlevoix, MI 49720.
Township of Hayes | Hayes Township Hall, 9195 Old U.S. 31 Highway North, Charlevoix, MI 49720.
Township of Norwood | Charlevoix County Building, 301 State Street, Charlevoix, MI 49720.
Township of Peaine | Peaine Township Hall, 36825 Kings Highway, Beaver Island, MI 49782.
Township of St. James | St. James Governmental Center, 37830 Kings Highway, Beaver Island, MI 49782.
Lyon County, Minnesota and Incorporated Areas
Docket No.: FEMA-B-2126
City of Marshall | City Hall, 344 West Main Street, Marshall, MN 56258.
City of Minneota | City Hall, 129 East 1st Street, Minneota, MN 56264.
Unincorporated Areas of Lyon County | Market Street Office Complex, 1424 East College Drive, #600, Marshall, MN 56258.
Davis County, Utah and Incorporated Areas
Docket Nos.: FEMA-B-1418, FEMA-B-2017, and FEMA-B-2155
City of Bountiful | City Hall, 795 South Main Street, Bountiful, UT 84010.
City of Centerville | Community Development Department, 655 North 1250 West, Centerville, UT 84014.
City of Farmington | City Hall, 160 South Main Street, Farmington, UT 84025.
City of Fruit Heights City | City Hall, 910 South Mountain Road, Fruit Heights City, UT 84037.
City of Kaysville | City Hall, 23 East Center Street, Kaysville, UT 84037.
City of Layton | City Hall, 437 North Wasatch Drive, Layton, UT 84041.
City of South Weber | City Hall, 1600 East South Weber Drive, South Weber, UT 84405.
City of West Bountiful | City Hall, 550 North 800 West, West Bountiful, UT 84087.
City of Woods Cross | City Hall, 1555 South 800 West, Woods Cross, UT 84087.
Unincorporated Areas of Davis County | Davis County Administration Building, 61 South Main Street, Farmington, UT 84025.

[FR Doc. 2022-11363 Filed 5-25-22; 8:45 am]

BILLING CODE 9110-12-P